DEPARTMENT OF HEALTH AND HUMAN SERVICES

Centers for Disease Control and Prevention

[RFA IP05-097]

Feasibility and Impact of Influenza Vaccination by Pediatricians of Household Contacts of Children Less Than Two Years; Notice of Availability of Funds—Amendment

A notice announcing the availability of fiscal year (FY) 2005 funds for a cooperative agreement for Feasibility and Impact of Influenza Vaccination by Pediatricians of Household Contacts of Children Less Than Two Years was published in the Federal Register, Thursday, May 12, 2005, Volume 70, Number 91, pages 25063-25067.

This notice has been withdrawn and applications are not being accepted for funding.

Dated: June 31, 2005.
William P. Nichols,
Director, Procurement and Grants Office, Centers for Disease Control and Prevention.

[FR Doc. 05-11976 Filed 6-16-05; 8:45 am]

BILLING CODE 4163-18-P